DEPARTMENT OF ENERGY

Federal Energy Regulatory Commission

Combined Notice of Filings #1

Take notice that the Commission received the following exempt wholesale generator filings:

Docket Numbers: EG18-78-000.

Applicants: Pine River Wind Energy LLC.

Description: Notice of Self-Certification of Exempt Wholesale Generator Status of Pine River Wind Energy LLC.

Filed Date: 4/30/18.

Accession Number: 20180430-5131.

Comments Due: 5 p.m. ET 5/21/18.

Take notice that the Commission received the following electric rate filings:

Docket Numbers: ER10-2651-004.

Applicants: Lockhart Power Company.

Description: Amendment to June 29, 2017 Updated Market Power Analysis for the Southeast Region of Lockhart Power Company.

Filed Date: 4/27/18.

Accession Number: 20180427-5290.

Comments Due: 5 p.m. ET 5/18/18.

Docket Numbers: ER12-1946-009; ER10-1333-009; ER10-2566-008 ER13-2322-004; ER15-190-006; ER17-543-003.

Applicants: Duke Energy Beckjord, LLC, Duke Energy Carolinas, LLC, Duke Energy Commercial Enterprises, Inc., Duke Energy Progress, Inc., Duke Energy Renewable Services, LLC, Duke Energy SAM, LLC.

Description: Notice of Change in Status of the Duke MBR Sellers.

Filed Date: 4/27/18.

Accession Number: 20180427-5287.

Comments Due: 5 p.m. ET 5/18/18.

Docket Numbers: ER15-2013-007; ER15-2020-005.

Applicants: Talen Energy Marketing, LLC, Talen Montana, LLC.

Description: Notice of Change in Status and Request for Confidential Treatment of Talen Energy Marketing, LLC, et al.

Filed Date: 4/27/18.

Accession Number: 20180427-5364.

Comments Due: 5 p.m. ET 5/18/18.

Docket Numbers: ER18-1122-000.

Applicants: Ameren Illinois Company.

Description: Motion to Intervene and Formal Challenge of the Southwestern Electric Cooperative, Inc.

Filed Date: 4/16/18.

Accession Number: 20180416-5138.

Comments Due: 5 p.m. ET 5/7/18.

Docket Numbers: ER18-1464-001.

Applicants: Midcontinent Independent System Operator, Inc.

Description: Tariff Amendment: 2018-04-30_Amendment to the Sub-Regional Power Balance Constraints filing to be effective 6/27/2018.

Filed Date: 4/30/18.

Accession Number: 20180430-5282.

Comments Due: 5 p.m. ET 5/21/18.

Docket Numbers: ER18-1465-000.

Applicants: Pacific Gas and Electric Company.

Description: § 205(d) Rate Filing: Lathrop Irrigation District Replacement IA and TFA (SA 366) to be effective 5/1/2018.

Filed Date: 4/30/18.

Accession Number: 20180430-5001.

Comments Due: 5 p.m. ET 5/21/18.

Docket Numbers: ER18-1466-000.

Applicants: Tucson Electric Power Company.

Description: § 205(d) Rate Filing: Concurrence to APS RS No. 290 to be effective 4/11/2018.

Filed Date: 4/30/18.

Accession Number: 20180430-5002.

Comments Due: 5 p.m. ET 5/21/18.

Docket Numbers: ER18-1467-000.

Applicants: Southwest Power Pool, Inc.

Description: § 205(d) Rate Filing: 2827R3 Kansas Power Pool & Westar Meter Agent Agreement to be effective 4/1/2018.

Filed Date: 4/30/18.

Accession Number: 20180430-5074.

Comments Due: 5 p.m. ET 5/21/18.

Docket Numbers: ER18-1468-000.

Applicants: Southwest Power Pool, Inc.

Description: § 205(d) Rate Filing: 2198R24 Kansas Power Pool NITSA NOA to be effective 4/1/2018.

Filed Date: 4/30/18.

Accession Number: 20180430-5082.

Comments Due: 5 p.m. ET 5/21/18.

Docket Numbers: ER18-1469-000.

Applicants: Tampa Electric Company.

Description: § 205(d) Rate Filing: Emergency Interchange Service Schedule A&B-2018 (Bundled) to be effective 5/1/2018.

Filed Date: 4/30/18.

Accession Number: 20180430-5084.

Comments Due: 5 p.m. ET 5/21/18.

Docket Numbers: ER18-1470-000.

Applicants: Pine River Wind Energy LLC.

Description: Baseline eTariff Filing: Application for Market-Based Rate Authorization to be effective 6/30/2018.

Filed Date: 4/30/18.

Accession Number: 20180430-5085.

Comments Due: 5 p.m. ET 5/21/18.

Docket Numbers: ER18-1470-001.

Applicants: Pine River Wind Energy LLC.

Description: Tariff Amendment: Supplement to Application for Market-Based Rate Authorization to be effective 6/30/2018.

Filed Date: 4/30/18.

Accession Number: 20180430-5113.

Comments Due: 5 p.m. ET 5/21/18.

Docket Numbers: ER18-1471-000.

Applicants: ACT Commodities, Inc.

Description: Baseline eTariff Filing: ACT Commodities MBR Application to be effective 5/1/2018.

Filed Date: 4/30/18.

Accession Number: 20180430-5086.

Comments Due: 5 p.m. ET 5/21/18.

Docket Numbers: ER18-1472-000.

Applicants: Midcontinent Independent System Operator, Inc.

Description: § 205(d) Rate Filing: 2018-04-30_Termination of SA 3035 OTP-Dakota Range I & II E&P (J436 J437) to be effective 5/1/2018.

Filed Date: 4/30/18.

Accession Number: 20180430-5151.

Comments Due: 5 p.m. ET 5/21/18.

Docket Numbers: ER18-1473-000.

Applicants: Pioneer Trail Wind Farm, LLC.

Description: Baseline eTariff Filing: Rate Schedule Reactive Power Compensation to be effective 6/29/2018.

Filed Date: 4/30/18.

Accession Number: 20180430-5188.

Comments Due: 5 p.m. ET 5/21/18.

Docket Numbers: ER18-1474-000.

Applicants: California Power Exchange Corporation.

Description: § 205(d) Rate Filing: Rate Filing for Rate Period 33 to be effective 7/1/2018.

Filed Date: 4/30/18.

Accession Number: 20180430-5226.

Comments Due: 5 p.m. ET 5/21/18.

Docket Numbers: ER18-1476-000.

Applicants: Mid-Atlantic Interstate Transmission, LLC, PJM Interconnection, L.L.C.

Description: § 205(d) Rate Filing: MAIT submits Original ECSA, Service Agreement No. 4930 with Penelec to be effective 7/1/2018.

Filed Date: 4/30/18.

Accession Number: 20180430-5249.

Comments Due: 5 p.m. ET 5/21/18.

Docket Numbers: ER18-1477-000.

Applicants: Midcontinent Independent System Operator, Inc.

Description: § 205(d) Rate Filing: 2018-04-30_SA 2988 MidAmerican-MidAmerican 1st Rev GIA (J500) to be effective 4/16/2018.

Filed Date: 4/30/18.

Accession Number: 20180430-5278.

Comments Due: 5 p.m. ET 5/21/18.

Docket Numbers: ER18-1478-000.

Applicants: NTE Ohio, LLC.

Description: § 205(d) Rate Filing: Normal 2018 to be effective 4/1/2018.

Filed Date: 4/30/18.

Accession Number: 20180430-5289.

Comments Due: 5 p.m. ET 5/21/18.

Docket Numbers: ER18-1479-000.

Applicants: AEP Ohio Transmission Company, Inc.

Description: Baseline eTariff Filing: Rate Schedules and Service Agreements Baseline to be effective 4/30/2018.

Filed Date: 4/30/18.

Accession Number: 20180430-5296.

Comments Due: 5 p.m. ET 5/21/18.

Take notice that the Commission received the following electric securities filings:

Docket Numbers: ES18-24-000.

Applicants: Midcontinent Independent System Operator, Inc.

Description: Clarification to March 26, 2018 Application of Midcontinent Independent System Operator, Inc. under Section 204 of the Federal Power Act for Authorization to Issue Securities.

Filed Date: 4/27/18.

Accession Number: 20180427-5351.

Comments Due: 5 p.m. ET 5/18/18.

Docket Numbers: ES18-33-000.

Applicants: Southwest Power Pool, Inc.

Description: Application under Section 204 of the Federal Power Act for Authorization to Issue Securities of Southwest Power Pool, Inc.

Filed Date: 4/27/18.

Accession Number: 20180427-5279.

Comments Due: 5 p.m. ET 5/18/18.

Docket Numbers: ES18-34-000.

Applicants: PJM Interconnection, L.L.C.

Description: Application of PJM Interconnection, L.L.C. under Section 204 of the Federal Power Act for an Order Authorizing the Issuance of Securities.

Filed Date: 4/27/18.

Accession Number: 20180427-5348.

Comments Due: 5 p.m. ET 5/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 30, 2018.
Nathaniel J. Davis, Sr.,
Deputy Secretary.

[FR Doc. 2018-09503 Filed 5-3-18; 8:45 am]

BILLING CODE 6717-01-P